DEPARTMENT OF COMMERCE

Foreign-Trade Zones Board

[Order No. 1643]

Approval for Expanded Manufacturing Authority; Foreign-Trade Subzone 15E; Kawasaki Motors Manufacturing Corp., U.S.A., Inc. (Internal Combustion Engines); Maryville, MO

Pursuant to its authority under the Foreign-Trade Zones Act of June 18, 1934, as amended (19 U.S.C. 81a-81u), the Foreign-Trade Zones Board (the Board) adopts the following Order:

Whereas, Greater Kansas City Foreign-Trade Zone, Inc., grantee of Foreign-Trade Zone 15, has requested an expansion of the scope of manufacturing authority on behalf of Kawasaki Motors Manufacturing Corp., U.S.A., Inc. (KMMC), operator of Subzone 15E at the KMMC engine manufacturing plant in Maryville, Missouri (FTZ Docket 59-2008, filed 10-14-08);

Whereas, notice inviting public comment has been given in the Federal Register (73 FR 62950, 10-22-08) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand the scope of manufacturing authority under zone procedures within Subzone 15E, as described in the application and Federal Register notice, is approved, subject to the FTZ Act and the Board's regulations, including Section 400.28.

Signed at Washington, DC, this 27th day of August 2009.
Ronald K. Lorentzen,
Acting Assistant Secretary of Commerce for Import Administration, Alternate Chairman, Foreign-Trade Zones Board.
Andrew McGilvray,
Executive Secretary.

[FR Doc. E9-21622 Filed 9-4-09; 8:45 am]

BILLING CODE P